DEPARTMENT OF AGRICULTURE

Food Safety and Inspection Service

[Docket No. 03-037N]

National Advisory Committee on Meat and Poultry Inspection

AGENCY: Notice of public meeting.

SUMMARY: The National Advisory Committee on Meat and Poultry Inspection (NACMPI) will hold a public meeting on November 5-6, 2003, to review and discuss the following issues: “Procedures for Conducting Inspection in Talmadge Aiken Plants;” “What is the best use of data to support risk-based inspection?” and “How can FSIS better associate food safety activities with public health surveillance data?” Three subcommittees will also meet on November 5, 2003, to work on the issues discussed during the full committee session.

DATES: The full Committee will hold a public meeting on Wednesday, November 5, and Thursday, November 6, 2003, from 8:30 a.m. to 5 p.m. Subcommittees will hold open meetings on Wednesday, November 5, 2003, from 7 p.m. to 9 p.m.

ADDRESSES: All Committee meetings will take place at the Washington Plaza Hotel, #10 Thomas Circle, NW., Washington, DC 20005. A meeting agenda is available on the Internet at http://frwebgate.access.gpo.gov/cgi-bin/leavi which is a Sub-web page of the FSIS Home page at http://frwebgate.access.gpo.gov/cgi. FSIS welcomes comments on the topics to be discussed at the public meeting. Comments should be sent to the FSIS Docket Room and reference docket 03-037N, U.S. Department of Agriculture, Food Safety and Inspection Service, Room 102 Cotton Annex, 300 12th Street, SW., Washington, DC 20250-3700. Comments may be sent by facsimile (202) 205-0381.

FOR FURTHER INFORMATION CONTACT: Robert Tynan for technical information at (202) 720-2982 or e-mail Robert.Tynan@fsis.usda.gov and Sonya L. West for meeting information at (202) 720-2561, FAX (202) 205-0157, or e-mail sonya.west@ fsis.usda.gov. Persons requiring a sign language interpreter or other special accommodations should notify Ms. West no later than October 31, 2003, at the above numbers or by e-mail. Information is also available on the Internet at http://frwebgate.access.gpo.gov/cgi.

SUPPLEMENTARY INFORMATION:

Background

On April 15, 2003, the Secretary of Agriculture renewed the charter for the NACMPI. The Committee provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4)), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups, producers, processors, and marketers from the meat and poultry industry, state government officials, and academia. The current members of the NACMPI are: Ms. Deanna Baldwin, Maryland Department of Agriculture; Dr. Gladys Bayse, Spelman College; Dr. David Carpenter, Southern Illinois University; Dr. James Denton, University of Arkansas; Dr. Kevin Elfering, Minnesota Department of Agriculture; Ms. Sandra Eskin, American Association of Retired Persons; Mr. Michael Govro, Oregon Department of Agriculture; Dr. Joseph Harris, Southwest Meat Association; Dr. Jill Hollingsworth, Food Marketing Institute; Dr. Alice Johnson, National Turkey Federation; Mr. Michael Kowalcyk, Safe Tables Our Priority; Dr. Irene Leech, Virginia Citizens Consumer Council; Mr. Charles Link, Cargill Meat Solutions; Dr. Catherine Logue, North Dakota State University; and Mr. Mark Schad, Schad Meats.

The Committee has three subcommittees to deliberate on specific issues and make recommendations to the Committee.

All interested parties are welcome to attend the meetings and to submit written comments and suggestions concerning issues the Committee will review and discuss. The comments and the official transcript of the meeting, when they become available, will be kept in the FSIS Docket Room at the address provided above. All comments received in response to this notice will be considered part of the public record and will be available for viewing in the FSIS Docket Room between 8:30 a.m. and 4:30 p.m., Monday through Friday.

Members of the public will be required to register before entering the meeting.

Additional Public Notification

Public awareness of all segments of rulemaking and policy development is important. Consequently, in an effort to ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or be of interest to our constituents/stakeholders. The constituent Listserv consists of industry, trade, and farm groups, consumer interest groups, allied health professionals, scientific professionals, and other individuals who have asked to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC on: October 21, 2003.
Garry L. McKee,
Administrator.

[FR Doc. 03-26968 Filed 10-24-03; 8:45 am]

BILLING CODE 3410-DM-P